OFFICE OF THE UNITED STATES TRADE REPRESENTATIVE

Generalized System of Preferences (GSP): Notice of Actions Arising Out of the 2010 Annual GSP Review

AGENCY: Office of the United States Trade Representative.

ACTION: Notice of a petition accepted for review; and request for comments.

SUMMARY: In September 2010, the Office of the United States Trade Representative (USTR) accepted petitions in connection with the 2010 GSP Annual Review to modify the GSP status of certain GSP beneficiary developing countries because of country practices. In November 2010, USTR accepted petitions requesting waivers of GSP competitive need limitations (CNLs). On January 1, 2011, authorization of the GSP program lapsed. Following the recent reauthorization of the GSP program, the GSP Subcommittee of the Trade Policy Staff Committee (TPSC) announces that it has accepted for review a country practices petition submitted for the 2010 GSP Annual Review regarding the Republic of Georgia. This notice sets forth the schedule for submitting comments and conducting the public hearing on the newly accepted petition, requesting to participate in the hearing, and submitting pre-hearing and post-hearing briefs. The deadline for submitting pre-hearing comments and requesting participation in the hearing is 5 p.m., January 10, 2012. The petition can be found in docket USTR-2010-0017 at http://www.regulations.gov.

This notice also announces that in view of the lapse in authorization of the GSP program through much of 2011, there will be no actions taken in 2011 with respect to CNLs, including no CNL-related removals of products from GSP eligibility and no redesignations of products currently subject to CNLs. Petitions previously accepted that requested waivers of CNL-related exclusions based on 2010 trade data are hereby dismissed.

FOR FURTHER INFORMATION CONTACT: Tameka Cooper, GSP Program, Office of the United States Trade Representative, 600 17th Street NW., Room 422, Washington, DC 20508. The telephone number is (202) 395-6971, the fax number is (202) 395-2961, and the Email address is Tameka_Cooper@ustr.eop.gov.

DATES: The GSP regulations (15 CFR part 2007) provide the schedule of dates for conducting an annual review unless otherwise specified in a Federal Register notice. The schedule for review of country practices petitions accepted pursuant to the 2010 Annual Review is provided below. Notification of any changes to this schedule will be given in the Federal Register.

January 10, 2012: Due date for submission of pre-hearing briefs and requests to appear at the GSP Subcommittee Public Hearing.

January 24, 2012: GSP Subcommittee Public Hearing on the country practice petition accepted for the 2010 GSP Annual Review, to be held at 1724 F Street NW., Washington, DC 20508, beginning at 9:30 a.m.

February 14, 2012: Due date for submission of post-hearing briefs.

SUPPLEMENTARY INFORMATION: The GSP provides for the duty-free importation of designated articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

Petitions for Review Regarding Country Practices

Pursuant to 15 CFR 2007.0(b), the GSP Subcommittee of the TPSC has recommended, and the TPSC has accepted, the review of one country practice petition submitted for the 2010 GSP Annual Review. The petition accepted is a Worker Rights petition regarding the Republic of Georgia filed by the AFL-CIO. This is the only country practice petition accepted as part of the 2010 GSP Annual Review.

Opportunities for Public Comment and Inspection of Comments

The GSP Subcommittee of the TPSC invites comments in support of or in opposition to the petition described above. Submissions should comply with 15 CFR part 2007, except as modified below. All submissions should reference case number 001-CP-10.

Requirements for Submissions

All submissions for the 2010 GSP Country Practices Eligibility Review must conform to the GSP regulations set forth at 15 CFR part 2007, except as modified below. These regulations are available on the USTR Web site at http://www.ustr.gov/trade-topics/trade-development/preference-programs/generalized-system-preference-gsp/gsp-program-inf.

To ensure their timely and expeditious receipt and consideration, 2010 GSP Annual Review submissions in response to this notice must be submitted online at http://www.regulations.gov, under docket number USTR-2010-0017. Hand-delivered submissions will not be accepted. Submissions must be submitted in English by the applicable deadlines set forth in this notice.

To make a submission using http://www.regulations.gov, enter docket number USTR-2010-0017 on the home page and click “search.” The site will list all documents associated with this docket. Find a reference to this notice by selecting “Notices” under “Document Type” on the left side of the search results page, and click on the link entitled “Submit a Comment.” The http://www.regulations.gov Web site offers the option of providing comments by filling in the “Type Comment and Upload File” field or by attaching a document. Given the detailed nature of the information sought by the GSP Subcommittee, it is preferred that comments and submissions be provided in an attached document. When attaching a document, type: (1) 2010 GSP Annual Review (2) The Country and subject area of the petition (3) “See attached” in the “Type Comment and Upload File” field on the online submission form, and indicate on the attachment whether the document is, as appropriate, “Written Comments,” “Notice of Intent to Testify,” “Pre-hearing brief” or a “Post hearing brief.” Submissions must be in English, with the total submission not to exceed 30 single-spaced standard letter-size pages in 12-point type, including attachments. Any data attachments to the submission should be included in the same file as the submission itself, and not as separate files.

Each submitter will receive a submission tracking number upon completion of the submissions procedure at http://www.regulations.gov. The tracking number will be the submitter's confirmation that the submission was received, and it should be kept for the submitter's records. USTR is not able to provide technical assistance for the Web site. Documents not submitted in accordance with these instructions may not be considered in this review. If unable to provide submissions as requested, please contact the GSP Program to arrange for an alternative method of transmission.

Business Confidential Comments

A person requesting that information contained in a submission submitted by that person be treated as confidential business information must certify that such information is business confidential and would not customarily be released to the public by the submitter. Confidential business information must be clearly designated as such, the submission must be marked “BUSINESS CONFIDENTIAL” at the top and bottom of the cover page and each succeeding page, and the submission should indicate, via brackets, the specific information that is confidential. Additionally, “Business Confidential” must be included in the “Type Comment & Upload File” field. Anyone submitting a comment containing business confidential information must also submit as a separate submission a non-confidential version of the confidential submission, indicating where confidential information has been redacted. The non-confidential version will be placed in the docket and open to public inspection.

Notice of Public Hearing

A hearing will be held by the GSP Subcommittee of the TPSC on Tuesday, January 24, 2012 for the country practice petition described above beginning at 9:30 a.m. at 1724 F Street NW., Washington, DC 20508. The hearing will be open to the public, and a transcript of the hearing will be made available for public inspection or can be purchased from the reporting company. No electronic media coverage (recording devices) will be allowed.

All interested parties wishing to make an oral presentation at the hearing must submit, following the above “Requirements for Submissions,” the name, address, telephone number, and facsimile number and email address, if available, of the witness(es) representing their organization to William D. Jackson, Deputy Assistant U.S. Trade Representative for GSP, by 5 p.m., January 10, 2012. Requests to present oral testimony must be accompanied by a written brief or statement, in English. Oral testimony before the GSP Subcommittee will be limited to five-minute presentations that summarize or supplement information contained in briefs or statements submitted for the record. Post-hearing briefs or statements will be accepted if they conform with the regulations cited above and are submitted, in English, by 5 p.m., February 14, 2012. Parties not wishing to appear at the public hearing may submit pre-hearing briefs or statements, in English, by 5 p.m., January 10, 2012, and post-hearing written briefs or statements, in English, by 5 p.m., February 14, 2012.

Cancellation of the 2010 Review of CNL Waiver Petitions

The statute governing the GSP program, 19 U.S.C. 2463(c)(2), provides that the President shall, not later than July 1 of the next calendar year, terminate the duty-free treatment for articles from GSP beneficiary countries that exceed the statutory competitive need limitations for the preceding year. In view of the lapse in the authorization of the GSP program from January 1, 2011 to November 5, 2011, a review of products subject to CNLs based on calendar year 2010 trade data and petitions seeking waivers of CNLs based on calendar year 2010 trade data could not be completed prior to the statutory deadline. Therefore, no CNL-related actions will be taken in 2011, including no CNL-related removals of GSP-eligible products based on 2010 trade and no redesignations of GSP-eligible products currently subject to CNL exclusions for specific GSP beneficiary countries. Petitions for CNL waivers that were accepted in December 2010 are dismissed.

The schedule for petitions seeking waivers of CNLs based on calendar year 2011 trade data is set forth in a separate Federal Register notice announcing the 2011 GSP Annual Review.

William D. Jackson,
Deputy Assistant U.S. Trade Representative for the Generalized System of Preferences, Office of the U.S. Trade Representative.

[FR Doc. 2011-28248 Filed 10-31-11; 8:45 am]

BILLING CODE 3190-W2-P